DEPARTMENT OF TRANSPORTATION

Federal Highway Administration

Notice of Final Federal Agency Action on Proposed Highway in Georgia, State Route 400 Express Lanes, Fulton and Forsyth Counties, Georgia (Atlanta Metropolitan Area)

AGENCY: Federal Lead Agency: Federal Highway Administration (FHWA), Department of Transportation (DOT).

ACTION: Notice of limitations on claims for judicial review of action by FHWA and other federal agencies.

SUMMARY: This notice announces actions taken by FHWA and other Federal agencies that are final. This final agency action relates to a proposed highway project, the State Route (SR) 400 Express Lanes beginning from the North Springs Metropolitan Atlanta Rapid Transit Authority (MARTA) station in Fulton County and ending at 0.9 mile north of McFarland Parkway in Forsyth County, Georgia. The approximate length of the proposed project is approximately 16 miles. The FHWA's Finding of No Significant Impact (FONSI) provides details on the Selected Alternative for the proposed improvements.

DATES: By this notice, FHWA is advising the public of final agency actions subject to 23 U.S.C. 139(l)(1). A claim seeking judicial review of the Federal agency actions on the highway project will be barred unless the claim is filed on or before July 12, 2021. If the Federal law that authorizes judicial review of a claim provides a time period of less than 150 days for filing such claim, then that shorter time period still applies.

FOR FURTHER INFORMATION CONTACT: For FHWA: Mr. Moises Marrero, Division Administrator, Georgia Division, Federal Highway Administration, 61 Forsyth Street, Suite 17T100; Atlanta, Georgia 30303; 8:00 a.m. to 5:00 p.m. (eastern time) Monday through Friday, (404) 562-3630; email: Moises.Marrero@dot.gov. For Georgia Department of Transportation (GDOT): Mr. Russell McMurry Commissioner, Georgia Department of Transportation, 600 West Peachtree Street, 22nd Floor, Atlanta, Georgia 30308, 8:00 a.m. to 5:00 p.m. (eastern time) Monday through Friday, Telephone: (404) 631-1990, email: RMcMurry@dot.ga.gov.

SUPPLEMENTARY INFORMATION: Notice is hereby given that FHWA and other federal agencies have taken final actions by issuing licenses and approvals for the following highway project in the State of Georgia: The State Route 400 Express Lanes located in metropolitan Atlanta, Georgia. The Selected Alternative will add two (2) priced Express Lanes in each direction along State Route 400 from North Springs MARTA station (currently Exit 5C) to McGinnis Ferry Road and one (1) priced Express Lane in each direction from McGinnis Ferry Road to approximately 0.9 mile north of McFarland Parkway (currently Exit 12) in Forsyth County. The approximate length of the proposed construction is approximately 16 miles. The facility will be tolled by electronic toll lane (ETL). The purpose of the project is listed below:

• Provide a transportation alternative that offers reliable travel times for drivers and transit users;

• Improve connections between regional destinations through priced, additional lanes that integrate with the greater metro Atlanta express lanes network;

• Accelerate project delivery.

The actions by the Federal agencies and the laws under which such actions were taken are described in the Environmental Assessment (EA) approved on July 29, 2020, and the FONSI for the project, approved on February 5, 2020, and in other documents in the project records. The FONSI and other project records are available by contacting FHWA or the Georgia Department of Transportation at the addresses listed above. The EA and FONSI can be reviewed and downloaded from the project website in two ways:

(1) At https://0001757-gdot.hub.arcgis.com/ and click on Environmental Assessment (EA) and FONSI; and

(2) Electronic versions of the EA and the FONSI have been sent to the following local libraries in the vicinity of the SR 400 corridor with a request to make the digital document available to patrons, including:

a. Fulton County Library at the Sandy Springs Branch (395 Mount Vernon Hwy NE, Sandy Springs, GA 30328),

b. Fulton County Library at the Roswell Branch (115 Norcross St, Roswell, GA 30075),

c. Fulton County Library at the East Roswell Branch (2301 Holcomb Bridge Rd, Roswell, GA 30076),

d. Fulton County Library at the Alpharetta Branch (10 Park Plaza, Alpharetta, GA 30009),

e. Fulton County Library at the Milton Branch (855 Mayfield Rd, Milton, GA 30009),

f. DeKalb Public Library at the Dunwoody Branch (5339 Chamblee Dunwoody Rd, Dunwoody, GA 30338), and

g. Forsyth County Public Library at the Sharon Forks Branch (2820 Old Atlanta Rd, Cumming, GA 30041).

This notice applies to all Federal agency decisions as of the issuance date of this notice and all laws under which such actions were taken, including but not limited to:

1. General: National Environmental Policy Act (NEPA) [42 U.S.C. 4321-4351]; Federal-Aid Highway Act [23 U.S.C. 109] and [23 U.S.C. 128];

2. Air: Clean Air Act [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544 and Section 1536]; Migratory Bird Treaty Act [16 U.S.C. 703-712].

5. Historic and Cultural Resources: Section 106 of the National Historic Preservation Act of 1966, as amended [16 U.S.C. 470(f)]. Archeological Resources Protection Act of 1977 [16 U.S.C. 470(aa)-470(mm)]; Archeological and Historic Preservation Act [16 U.S.C. 469-469(c)]; Native American Grave Protection and Repatriation Act (NAGPRA) [25 U.S.C. 3001-3013].

6. Social and Economic: Civil Rights Act of 1964 [42 U.S.C. 2000(d)-2000(d)(1)]; Farmland Protection Policy Act (FPPA) [7 U.S.C. 4201-4209]; American Indian Religious Freedom Act [42 U.S.C. 1996].

7. Hazardous Materials: Comprehensive Environmental Response, Compensation, and Liability Act (CERCLA) [42 U.S.C. 9601-9675]; Superfund Amendments and Reauthorization Act of 1986 (SARA); Resource Conservation and Recovery Act (RCRA) [42 U.S.C. 6901-6992(k)]; Comprehensive Environmental Response, Compensation, and Liability Act [42 U.S.C. 9601-9675].

8. Noise: Federal-Aid Highway Act of 1970, Public Law 91-605 [84 Stat. 1713].

9. Executive Orders: E.O. 12898, Federal Actions to Address Environmental Justice in Minority Populations and Low Income Populations; E.O. 11593 Protection and Enhancement of Cultural Resources; E.O. 13175, Consultation and Coordination with Indian Tribal Governments; E.O. 13045 Protection of Children from Environmental Health Risks and Safety Risks; E.O. 13112, Invasive Species; E.O. 11514, Protection and Enhancement of Environmental Quality: E.O. 13287 Preserve America. Nothing in this notice creates a cause of action under these Executive Orders.

(Catalog of Federal Domestic Assistance Program Number 20.205, Highway Planning and Construction. The regulations implementing Executive Order 12372 regarding intergovernmental consultation on Federal programs and activities apply to this program.)

Authority: 23 U.S.C. 139 (l)(1).

Issued on: February 5, 2021.
Moises Marrero,
Division Administrator, Atlanta, Georgia.

[FR Doc. 2021-02803 Filed 2-11-21; 8:45 am]

BILLING CODE 4910-22-P